DEPARTMENT OF JUSTICE

[OMB Number 1122-0023]

Agency Information Collection Activities; Proposed eCollection eComments Requested; Extension of a Previously Approved Collection; Title Semi-Annual Progress Report for Grantees From the Sexual Assault Services Program—Grants to Culturally Specific Programs

AGENCY: Office on Violence Against Women, Department of Justice.

ACTION: 60-Day notice.

SUMMARY: The Office on Violence Against Women, Department of Justice (DOJ), will be submitting the following information collection request to the Office of Management and Budget (OMB) for review and approval in accordance with the Paperwork Reduction Act of 1995.

DATES: Comments are encouraged and will be accepted for 60 days until October 20, 2025.

FOR FURTHER INFORMATION CONTACT: If you have additional comments especially on the estimated public burden or associated response time, suggestions, or need a copy of the proposed information collection instrument with instructions or additional information, please contact Tiffany Watson, Office on Violence Against Women, at 202-307-6026 or Tiffany.Watson@usdoj.gov.

SUPPLEMENTARY INFORMATION: Written comments and suggestions from the public and affected agencies concerning the proposed collection of information are encouraged. Your comments should address one or more of the following four points:

—Evaluate whether the proposed collection of information is necessary for the proper performance of the functions of the Office on Violence Against Women, including whether the information will have practical utility;

—Evaluate the accuracy of the agency's estimate of the burden of the proposed collection of information, including the validity of the methodology and assumptions used;

—Evaluate whether, and if so how, the quality, utility, and clarity of the information to be collected can be enhanced; and

—Minimize the burden of the collection of information on those who are to respond, including through the use of appropriate automated, electronic, mechanical, or other technological collection techniques or other forms of information technology, e.g., permitting electronic submission of responses.

Abstract: Sexual Assault Services Program—Grants to Culturally Specific Programs (SASP-CSP) funding is awarded to nonprofit organizations that focus primarily on culturally specific communities and that have experience in the area of sexual assault or who partner with an organization having such expertise. SASP-CSP funds are used to establish, maintain, and expand sustainable, culturally appropriate services that address the unique needs and challenges of victims of sexual assault from culturally specific communities. The grant funds are distributed to grantees as outlined under the provisions of the Violence Against Women Act, 34 U.S.C. 12511(c).

Overview of This Information Collection

1. Type of Information Collection: Extension of a currently approved collection.

2. Title of the Form/Collection: Semi-Annual Progress Report for Grantees from the Sexual Assault Services Program—Grants to Culturally Specific Programs (SASP-CSP).

3. Agency form number, if any, and the applicable component of the Department of Justice sponsoring the collection: Form Number: 1122-0023. U.S. Department of Justice, Office on Violence Against Women.

4. Affected public who will be asked or required to respond, as well as a brief abstract: The affected public includes the approximately 23 grantees of the SASP Culturally Specific Program. This program supports projects that create, maintain and expand sustainable sexual assault services provided by culturally specific organizations, which are uniquely situated to respond to the needs of sexual assault victims within culturally specific populations.

5. An estimate of the total number of respondents and the amount of time estimated for an average respondent to respond/reply: It is estimated that it will take the approximately 23 respondents (SASP-CSP grantees) approximately one hour to complete a semi-annual progress report. The semi-annual progress report is divided into sections that pertain to the different types of activities in which grantees may engage. A SASP-CSP grantee will only be required to complete the sections of the form that pertain to its own specific activities.

6. An estimate of the total public burden (in hours) associated with the collection: The total annual hour burden to complete the data collection forms is 46 hours, that is 23 grantees completing a form twice a year with an estimated completion time for the form being one hour.

7. An estimate of the total annual cost burden associated with the collection, if applicable: The annualized costs to the Federal Government resulting from the OVW staff review of the progress reports submitted by grantees are estimated to be $2,667.

8.

Activity | Number of respondents | Frequency (annually) | Total annual responses | Time per response | Total annual burden (hours)
Progress Report Form | 23 | 2 | 46 | 1 hour | 46
Unduplicated Totals | 23 |  | 46 |  | 46

If additional information is required contact: Darwin Arceo, Department Clearance Officer, United States Department of Justice, Justice Management Division, Policy and Planning Staff, Two Constitution Square, 145 N Street NE, 4W-218, Washington, DC.

Dated: August 19, 2025.
Darwin Arceo,
Department Clearance Officer for PRA, U.S. Department of Justice.

[FR Doc. 2025-16042 Filed 8-20-25; 8:45 am]

BILLING CODE 4410-FX-P